FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 26, 2019.

A. Federal Reserve Bank of Chicago (Colette A. Fried, Assistant Vice President) 230 South LaSalle Street, Chicago, Illinois 60690-1414:

1. Heron Bay Partners, LLC, Bloomfield Hills, Michigan, with the Joel Marvin Dorfman Trust dated May 22, 2004, Bloomfield Hills, Michigan, and Joel M. Dorfman, individually and as trustee of the Joel Marvin Dorfman Trust dated May 22, 2004 serving as manager of Heron Bay Partners, LLC, Bloomfield Hills, Michigan, together with Carolyn Dorfman, Short Hills, New Jersey, The Henry S. Dorfman Irrevocable Trust f/b/o Carolyn Dorfman, Short Hills, New Jersey, Gayle Weiss Revocable Trust dated August 3, 2010, Bloomfield Hills, Michigan, Gayle Weiss, as trustee of the Gayle Weiss Revocable Trust dated August 3, 2010, Bloomfield Hills, Michigan, The Henry S. Dorfman Irrevocable Trust f/b/o Gayle Weiss, Bloomfield Hills, Michigan, Joel Marvin Dorfman Trust dated May 22, 2004, Bloomfield Hills, Michigan, Joel M. Dorfman, as trustee of the Joel Marvin Dorfman Trust dated May 22, 2004, Bloomfield Hills, Michigan, The Henry S. Dorfman Irrevocable Trust f/b/o Joel M. Dorfman, Bloomfield Hills, Michigan, the H.S. Dorfman GST Trust, Bloomfield Hills, Michigan, Mala Dorfman, as trustee of the H.S. Dorfman GST Trust, Bal Harbour, Florida, together as members of North Star Partners, LLC, Bloomfield Hills, Michigan, and Jordan Dorfman, Bloomfield Hills, Michigan, and Noah Dorfman, Ferndale, Michigan, as a group acting in concert, to join the Dorfman Family Control Group approved on June 16, 2005; to retain voting shares of North Star Financial Holdings, Inc., Bingham Farms, Michigan, and thereby indirectly retain Main Street Bank, Bingham Farms, Michigan.

Board of Governors of the Federal Reserve System, February 5, 2019.
Yao-Chin Chao,
Assistant Secretary of the Board.

[FR Doc. 2019-01646 Filed 2-7-19; 8:45 am]

BILLING CODE P